DEPARTMENT OF TRANSPORTATION

Federal Highway Administration

Environmental Impact Statement: Jefferson County, NY

AGENCY: Federal Highway Administration (FHWA), DOT.

ACTION: Notice of intent.

SUMMARY: The FHWA is issuing this notice to advise the public that an environmental impact statement will be prepared for the proposed highway project in Jefferson County, New York.

FOR FURTHER INFORMATION CONTACT: R. Carey Babyak P.E., Regional Director, 317 Washington Street, Watertown, NY 13601, Telephone: (315) 785-2333; or Robert Arnold, Division Administrator, Federal Highway Administration, New York division, Leo W. O'Brien Federal Building, 9th Floor, Clinton Avenue and North Pearl Street, Albany, New York 12207, Telephone: (518) 431-4127.

SUPPLEMENTARY INFORMATION: The FHWA, in cooperation with the New York State Department of Transportation (NYSDOT) will prepare an environmental impact statement (EIS) on a proposal to improve the transportation link between Interstate Route 81 and U.S. Route 11 north of the City of Watertown, in Jefferson County, New York. The proposed improvement would involve the construction of a new highway or the reconstruction of an existing highway in the towns of Pamelia and LeRay for a distance of about 7.7 kilometers (4.8 miles). Improvements to the corridor are considered necessary to provide for the existing and projected operational needs of the Fort Drum Army Base, address current and projected highway capacity issues, and enhance the traffic safety of the transportation system.

Alternatives under consideration include: (1) Taking no action; (2) creating a new interchange and alignment north of exit 48 on Interstate Route 81; (3) improving the interchange at exit 48 on Interstate Route 81 and reconstructing the existing highway network; and (4) rebuilding the interchange at exit 47 and creating a new alignment south of exit 48 on Interstate Route 81. Incorporated into and studied with the various build alternatives will be design variations of grade and alignment.

Letters describing the proposed action and soliciting comments will be sent to appropriate Federal, State, and local agencies, and to private organizations and citizens who have previously expressed interest in this proposal. A series of public information meetings will be held in the Towns of Pamelia and LeRay between September, 2004 and December, 2005. In addition, at least one public hearing will be held. Public notice will be given of the time and place of the meetings and hearings. The draft EIS will be available for public and agency review and comment. No formal NEPA scoping meeting is planned at this time.

To ensure that the full range of issues related to this proposal action are addressed and all significant issues identified, comments and suggestions are invited from all interested parties. Comments or questions concerning this proposed action and the EIS should be directed to the NYSDOT or FHWA at the address provided above.

(Catalog of Federal Domestic Assistance Program Number 20.205, Highway Research, Planning and Construction. The regulations implementing Executive Order 12372 regarding intergovernmental consultation on Federal programs and activities apply to this program)
Issued on: September 1, 2004.
David W. Nardone,
Senior Operations Engineer, Federal Highway Administration, Albany, New York.

[FR Doc. 04-20593 Filed 9-10-04; 8:45 am]

BILLING CODE 4910-22-M